SURFACE TRANSPORTATION BOARD

[Docket No. AB 1252 (Sub-No. 1X)]

Eastern Idaho Railroad, L.L.C.—Abandonment Exemption—in Bonneville County, Idaho

Eastern Idaho Railroad, L.L.C. (EIRR), has filed a verified notice of exemption under 49 CFR part 1152 subpart F—Exempt Abandonments to abandon an approximately 0.76-mile portion of a railroad line known generally as the Old Butte Main Line, extending between milepost 184.14 (immediately southeast of the grade crossing with Yellowstone Highway) and milepost 184.90 (north of the grade crossing with W Broadway Street), in Idaho Falls, Bonneville County, Idaho (the Line). The line traverses U.S. Postal Service Zip Code 83402.

EIRR has certified that: (1) No local traffic has moved over the Line for at least two years; (2) any overhead traffic can be rerouted over other lines; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7 and 1105.8 (environmental and historic report), 49 CFR 1105.12 (newspaper publication), and 49 CFR 1152.50(d)(1) (notice to governmental agencies) have been met.

Any employee of EIRR adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,¹ the exemption will be effective on April 12, 2020, unless stayed pending reconsideration. Petitions to stay that do not involve environmental issues,² formal expressions of intent to file an OFA under 49 CFR 1152.27(c)(2), and interim trail use/rail banking requests under 49 CFR 1152.29 must be filed by March 23, 2020.³ Petitions to reopen or requests for public use conditions under 49 CFR 1152.28 must be filed by April 2, 2020, with the Surface Transportation Board, 395 E Street SW, Washington, DC 20423-0001.

¹ Persons interested in submitting an OFA must first file a formal expression of intent to file an offer, indicating the type of financial assistance they wish to provide (i.e., subsidy or purchase) and demonstrating that they are preliminarily financially responsible. See 49 CFR 1152.27(c)(2)(i).

² The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

³ Filing fees for OFAs and trail use requests can be found at 49 CFR 1002.2(f)(25) and (27), respectively.

A copy of any petition filed with the Board should be sent to EIRR's representative, Robert A. Wimbish, Fletcher & Sippel LLC, 29 N Wacker Drive, Suite 800, Chicago, IL 60606-2832.

If the verified notice contains false or misleading information, the exemption is void ab initio.

EIRR has filed a combined environmental and historic report that addresses the potential effects, if any, of the abandonment on the environment and historic resources. OEA will issue a Draft Environmental Assessment (EA) by March 20, 2020. The Draft EA will be available to interested persons on the Board's website, by writing to OEA, or by calling OEA at (202) 245-0305. Assistance for the hearing impaired is available through the Federal Relay Service at (800) 877-8339. Comments on environmental and historic preservation matters must be filed within 15 days after the Draft EA becomes available to the public.

Environmental, historic preservation, public use, or interim trail use/rail banking conditions will be imposed, where appropriate, in a subsequent decision.

Pursuant to the provisions of 49 CFR 1152.29(e)(2), EIRR shall file a notice of consummation with the Board to signify that it has exercised the authority granted and fully abandoned the Line. If consummation has not been effected by EIRR's filing of a notice of consummation by March 13, 2021, and there are no legal or regulatory barriers to consummation, the authority to abandon will automatically expire.

Board decisions and notices are available at www.stb.gov.

Decided: March 9, 2020.
By the Board, Allison C. Davis, Director, Office of Proceedings.
Brendetta Jones,
Clearance Clerk.

[FR Doc. 2020-05107 Filed 3-12-20; 8:45 am]

BILLING CODE 4915-01-P